DEPARTMENT OF TRANSPORTATION

Federal Aviation Administration

14 CFR Part 39

[Docket No. FAA-2010-0172; Directorate Identifier 2009-NM-189-AD]

RIN 2120-AA64

Airworthiness Directives; Airbus Model A300, A300-600, and A310 Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

In the past, some operators have reported difficulties to pressurise the hydraulic reservoirs, due to leakage of the Crissair reservoir air pressurisation check valves. * * * The leakage of the check valves was caused by an incorrect spring material. The affected Crissair check valves * * * were then replaced with improved check valves P/N [part number] 2S2794-1 * * *.

More recently, similar issues were again reported on aeroplanes with Crissair check valves P/N 2S2794-1 installed. The investigations * * * have shown that a spring, mounted inside the valve, does not meet the Airbus type design specifications.

This situation, if not corrected, can cause hydraulic system functional degradation, possibly resulting in reduced control of the aeroplane when combined with an air duct leak, air conditioning system contamination or, if installed, malfunction of the fire extinguishing system in the Class `C' cargo compartment.

* * * * *

The proposed AD would require actions that are intended to address the unsafe condition described in the MCAI.

DATES: We must receive comments on this proposed AD by April 12, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2010-0172; Directorate Identifier 2009-NM-189-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2009-0171, dated August 5, 2009 (referred to after this as “the MCAI”), to correct an unsafe condition for the specified products. The MCAI states:

In the past, some operators have reported difficulties to pressurise the hydraulic reservoirs, due to leakage of the Crissair reservoir air pressurisation check valves. In some cases, the air conditioning system was contaminated with hydraulic mist. The leakage of the check valves was caused by an incorrect spring material. The affected Crissair check valves Part Number (P/N) 2S2794 were then replaced with improved check valves P/N 2S2794-1 in accordance with Airbus Service Information Letter 29-020.

More recently, similar issues were again reported on aeroplanes with Crissair check valves P/N 2S2794-1 installed. The investigations carried out on those check valves have shown that a spring, mounted inside the valve, does not meet the Airbus type design specifications.

This situation, if not corrected, can cause hydraulic system functional degradation, possibly resulting in reduced control of the aeroplane when combined with an air duct leak, air conditioning system contamination or, if installed, malfunction of the fire extinguishing system in the Class `C' cargo compartment.

For the reasons described above, EASA AD 2008-0166 was issued to require the inspection of the Crissair check valves P/N 2S2794-1, to identify serial numbers (s/n) and the replacement of the affected ones with serviceable units.

Later on, further investigation by the vendor Crissair revealed more suspect check valves P/N 2S2794-1. Based on this, it was concluded that EASA AD 2008-0166 did not adequately address the unsafe condition and also did not correctly identify the Functional Item Numbers (FIN) of the various aeroplane installations of the affected valves. Consequently, EASA AD Cancellation Notice No.: 2008-0166-CN was issued on 29 October 2008 to cancel EASA AD 2008-0166.

An updated list of suspect check valves with P/N 2S2794-1 has now been issued by Crissair Inc., the manufacturer. Consequently, this EASA AD requires the identification of the check valves by s/n and the replacement of the affected ones with serviceable units.

You may obtain further information by examining the MCAI in the AD docket.

Relevant Service Information

Airbus has issued the following service bulletins:

• Airbus Mandatory Service Bulletin A300-29-0124, Revision 02, including Appendices 1, 2, and 3, dated March 10, 2009;

• Airbus Mandatory Service Bulletin A300-29-6060, Revision 01, including Appendices 1, 2, and 3, dated March 10, 2009; and

• Airbus Mandatory Service Bulletin A310-29-2097, Revision 01, including Appendices 1, 2, and 3, dated March 19, 2009.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 206 products of U.S. registry. We also estimate that it would take about 12 work-hours per product, depending on airplane configuration, to comply with the basic requirements of this proposed AD. The average labor rate is $85 per work-hour. Based on these figures, we estimate the cost of the proposed AD on U.S. operators to be $210,120, or $1,020 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2010-0172; Directorate Identifier 2009-NM-189-AD.

Comments Due Date

(a) We must receive comments by April 12, 2010.

Affected ADs

(b) None.

Applicability

(c) This AD applies to Airbus Model A300 B2-1A, B2-1C, B2K-3C, B2-203, B4-2C, B4-103, B4-203, B4-601, B4-603, B4-620, B4-622, B4-605R, B4-622R, F4-605R, F4-622R, and C4-605R Variant F airplanes; and Model A310-203, -204, -221, -222, -304, -322, -324, and -325 airplanes; certificated in any category, all certified models and all serial numbers on which any Crissair check valve part number 2S2794-1 is installed.

Subject

(d) Air Transport Association (ATA) of America Code 29: Hydraulic Power; and 26: Fire Protection.

Reason

(e) The mandatory continuing airworthiness information (MCAI) states:

In the past, some operators have reported difficulties to pressurise the hydraulic reservoirs, due to leakage of the Crissair reservoir air pressurization check valves. In some cases, the air conditioning system was contaminated with hydraulic mist. The leakage of the check valves was caused by an incorrect spring material. The affected Crissair check valves Part Number (P/N) 2S2794 were then replaced with improved check valves P/N 2S2794-1 in accordance with Airbus Service Information Letter 29-020.

More recently, similar issues were again reported on aeroplanes with Crissair check valves P/N 2S2794-1 installed. The investigations carried out on those check valves have shown that a spring, mounted inside the valve, does not meet the Airbus type design specifications.

This situation, if not corrected, can cause hydraulic system functional degradation, possibly resulting in reduced control of the aeroplane when combined with an air duct leak, air conditioning system contamination or, if installed, malfunction of the fire extinguishing system in the Class `C' cargo compartment.

For the reasons described above, EASA [European Aviation Safety Agency] AD 2008-0166 was issued to require the inspection of the Crissair check valves P/N 2S2794-1, to identify serial numbers (s/n) and the replacement of the affected ones with serviceable units.

Later on, further investigation by the vendor Crissair revealed more suspect check valves P/N 2S2794-1. Based on this, it was concluded that EASA AD 2008-0166 did not adequately address the unsafe condition and also did not correctly identify the Functional Item Numbers (FIN) of the various aeroplane installations of the affected valves. Consequently, EASA AD Cancellation Notice No.: 2008-0166-CN was issued on 29 October 2008 to cancel EASA AD 2008-0166.

An updated list of suspect check valves with P/N 2S2794-1 has now been issued by Crissair Inc., the manufacturer. Consequently, this EASA AD requires the identification of the check valves by s/n and the replacement of the affected ones with serviceable units.

Actions and Compliance

(f) Unless already done, do the following actions.

(1) At the applicable compliance time specified in Table 1 of this AD: For Crissair check valves, P/N 2S2794-1, identify the serial number using Appendix 1 of the applicable service bulletin identified in Table 2 of this AD, in accordance with the Accomplishment Instructions in the applicable service bulletin identified in Table 2 of this AD. Except as provided by paragraph (f)(2) of this AD, for any valve having a serial number listed in Appendix 1 of the applicable service bulletin identified in Table 2 of this AD, before further flight, install a new or modified check valve in accordance with the applicable service bulletin identified in Table 2 of this AD.

Table 1—Affected Check Valve Installation
Affected check valve installation, identified by FIN (functional item number) | Compliance time
(i) Airplanes having Hydraulic System with FIN 29/1388, FIN 29/2388 and FIN 29/3388 | Within 4 months after the effective date of this AD.
(ii) Cargo Compartment Fire Extinguishing System, equipped with Flow Metering System (A310 and A300-600 airplanes having “post-Airbus modification 06403” only) FIN 26/0203 | Within 4 months after the effective date of this AD.
(iii) Airplanes having Hydraulic System with FIN 29/1378, FIN 29/1382 and FIN 29/1394 | Within 30 months after the effective date of this AD.
(iv) Hydraulic System (A300 airplanes having configuration 01 “pre-Airbus modification 03079” only) FIN 29/1381 | Within 30 months after the effective date of this AD.

(2) Check valves P/N 2S2794-1 marked with an “R” have already been modified in accordance with Crissair Service Bulletin 20070407-29-1 and do not need to be replaced. Check valves with P/N 2S2794 are not affected and do not need to be replaced.

(3) As of the effective date of this AD, no person may install any Crissair check valve, P/N 2S2794-1, on any airplane unless it has a serial number other than those listed in Appendix 1 of the applicable service bulletin identified in Table 2 of this AD, or unless check valve P/N 2S2794-1 is marked with an “R.”

Table 2—Service Information
Airbus model— | Airbus Mandatory Service Bulletin— | Revision— | Dated—
A300 airplanes | A300-29-0124, including Appendices 1, 2, and 3 | 02 | March 10, 2009.
A300-600 airplanes | A300-29-6060, including Appendices 1, 2, and 3 | 01 | March 10, 2009.
A310 airplanes | A310-29-2097, including Appendices 1, 2, and 3 | 01 | March 19, 2009.

(4) Submit an inspection report of the inspection required by paragraph (f)(1) of this AD to Airbus Customer Services Directorate, 1 Rond Point Maurice Bellonte, 31707 Blagnac Cedex, France; telephone +33 5 61 93 33 33; fax +33 5 61 93 42 51; e-mail: sb.reporting@airbus.com; at the applicable time specified in paragraph (f)(4)(i) or (f)(4)(ii) of this AD. The report must include the information specified on the inspection report sheet provided in the applicable service bulletin identified in Table 2 of this AD.

(i) If the inspection was done on or after the effective date of this AD: Submit the report within 30 days after the inspection.

(ii) If the inspection was done before the effective date of this AD: Submit the report within 30 days after the effective date of this AD.

FAA AD Differences

Note 1: This AD differs from the MCAI and/or service information as follows: Although the MCAI states not to install the part identified in paragraph (f)(3) of this AD after accomplishing the actions specified in paragraph (f)(1) of this AD, this AD prohibits installation of the part as of the effective date of this AD.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to Attn: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the Information collection requirements and has assigned OMB Control Number 2120-0056.

Related Information

(h) Refer to MCAI EASA Airworthiness Directive 2009-0171, dated August 5, 2009; and the service bulletins identified in Table 2 of this AD; for related information.

Issued in Renton, Washington, on February 17, 2010.
Stephen P. Boyd,
Acting Manager, Transport Airplane Directorate, Aircraft Certification Service.

[FR Doc. 2010-3817 Filed 2-24-10; 8:45 am]

BILLING CODE 4910-13-P